DEPARTMENT OF HOMELAND SECURITY

Transportation Security Administration

Notice of Meeting

AGENCY: Transportation Security Administration, Department of Homeland Security (DHS).

ACTION: Notice.

SUMMARY: Pursuant to standards of the International Civil Aviation Organization (ICAO), effective June 30, 2021, all international air-cargo transported on commercial aircraft must be screened by the aircraft operator or received from another regulated entity that has applied security controls that satisfy the international standards. The Transportation Security Administration (TSA) intends to implement a new program that meets the ICAO standards for an alternative to screening and is announcing a closed meeting with representatives of e-commerce fulfillment centers, manufacturers, shippers, suppliers, warehouses, and third-party logistics providers who ship international air cargo to discuss this alternative framework. This meeting will be closed to the public. Participation is limited and all participants must be validated by TSA as a representative of one of the industries identified above and obtain clearance from TSA for access to Sensitive Security Information (SSI). In light of the COVID-19 public health crisis, the meeting will be virtual.

DATES: This meeting will occur on Wednesday, January 13, 2021, beginning at 9:00 a.m. (Eastern Standard Time). Requests to attend the meeting must be received by the individual listed in FOR FURTHER INFORMATION CONTACT on or before January 6, 2021.

ADDRESSES: Additional information on SSI can be found at the following link: https://www.tsa.gov/for-industry/sensitive-security-information. Due to the COVID-19 public health crisis, the meeting will be held virtually. See Participation at the Meeting below for information on how to register to attend the meeting. TSA will provide participation and other information to qualified participants in advance of the meeting.

FOR FURTHER INFORMATION CONTACT: Thomas Friedman, Transportation Security Administration, 6595 Springfield Center Drive, Springfield, VA 20598-6028; telephone (571) 227-3555 OR (202) 236-3786; email Thomas.Friedman@tsa.dhs.gov OR Air Cargo Branch, TSA at the above address.

SUPPLEMENTARY INFORMATION:

Background

Effective June 30, 2021, international standards require that all international air cargo carried by commercial air carriers (passenger and all-cargo) be screened or received from an entity that has applied security controls and/or screened the cargo. On April 10, 2020, TSA published a Request for Information (RFI): Air Cargo Security Options to Mitigate Costs of Compliance with International Security Requirements.¹ The RFI requested information from the public, specifically the air cargo industry, relating to compliance with international security standards for the transport of air cargo.² TSA extended the comment period for the RFI and held a public meeting on July 29, 2020, to provide information to assist the public in submitting comments and obtain feedback from the industry.³ Through the RFI, TSA specifically sought information regarding options to reduce the burden on U.S. and foreign all-cargo aircraft operators in complying with the international standards, such as security controls implemented throughout the supply chain that provides a level of security commensurate with the screening of cargo before air transport.

¹ See 85 FR 20234 (April 10, 2020).

² Options considered are limited to the transport of air cargo on all-cargo aircraft. All cargo transported on passenger aircraft must be screened as required by TSA's regulations, which implement 49 U.S.C. 44901(g).

³ See 85 FR 37958 (June 24, 2020) and transcript available at www.regulations.gov under Docket No. TSA-2020-0001.

Closed Meeting

On January 13, 2021, TSA will hold a closed meeting to present a new program that e-commerce fulfillment centers, manufacturers, shippers, suppliers, warehouses, and third-party logistics providers who ship international air cargo could voluntarily choose to participate in as an alternative to having their air cargo screened by a TSA-regulated commercial air carrier. This discussion requires participants to speak freely about issues that would be detrimental to transportation safety and security if disclosed.

Pursuant to the requirements in Title 49 of the United States Code (U.S.C.) sections 114(r) and 44912(d), and implementing regulations in title 49 of the Code of Federal Regulations (CFR) part 1520, this meeting will be closed to the public to protect against disclosure of SSI. SSI protections apply to information related to development of procedures and facilities “to protect passengers and property against acts of criminal violence, aircraft privacy, and terrorism and to ensure security.” ⁴ All participants must either be “covered persons” as defined in 49 CFR 1520.7, or otherwise designated by TSA as a “covered person” for purposes of this event. Participants will be required to sign a non-disclosure agreement, which includes acknowledgment of TSA's SSI requirements, and ensure that any information received or otherwise communicated is properly protected. The responsibilities of participants to safeguard all SSI disclosed during or related to this meeting will continue after the conclusion of the industry day event.

⁴ See 49 U.S.C. 44912(d).

Participation at the Meeting

In addition to providing invitations to relevant associations and corporate representatives known to TSA through its regular stakeholder engagements, TSA also invites representatives of manufacturers, shippers, suppliers, warehouses, e-commerce fulfillment centers, third-party logistics providers that rely on international air cargo transportation for commercial purposes. Participants will be encouraged to share their feedback about TSA's proposed alternate framework to assist industry in implementing the new ICAO standards.

Persons within these industries are encouraged to contact the individual noted in the FOR FURTHER INFORMATION CONTACT section of this notice for additional information. Participation in the meeting is limited to individuals that TSA determines represent industry entities potentially and directly affected by the international standards. TSA will limit participation to no more than two individuals per association or company. All participants must be approved by TSA for access to SSI and must sign a Non-Disclosure Agreement in advance of the meeting. Further attendance information will be provided to qualified participants.

The meeting on January 13, 2021, is scheduled to be a full-day meeting beginning at 9:00 a.m. (Eastern Standard Time) but may end earlier if the discussion has concluded.

Stacey Fitzmaurice,
Executive Assistant Administrator, Operations Support, Transportation Security Administration.

[FR Doc. 2020-28813 Filed 12-23-20; 4:15 pm]

BILLING CODE 9110-05-P